DEPARTMENT OF DEFENSE

Office of the Secretary

[Docket ID: DoD-2025-OS-0606]

Submission for OMB Review; Comment Request

AGENCY: Washington Headquarter Services, Department of Defense (DoD).

ACTION: 30-Day information collection notice.

SUMMARY: The DoD has submitted to the Office of Management and Budget (OMB) for clearance the following proposal for collection of information under the provisions of the Paperwork Reduction Act.

DATES: Consideration will be given to all comments received by January 28, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; associated form; and OMB number: Confirmation of Request for Reasonable Accommodation; Form A “Reasonable Accommodation Request, Form B “Medical Information and Restriction Assessment”; OMB Control Number 0704-0498.

Type of request: Revision.

Number of respondents: 720.

Responses per respondent: 1.

Annual responses: 720.

Average burden per response: 15 minutes.

Annual burden hours: 180.

Needs and uses: Request forms, serve as the formal documentation of an employee's accommodation request and guide the interactive process between the employee, supervisor, and Reasonable Accommodation Program Manager. They capture the employee's needs, initiate the evaluation process, and provide a record for compliance and accountability. Together, these forms help agencies plan accommodations: such as modified equipment, adjusted schedules, or workspace changes, while also safeguarding confidentiality and avoiding prohibited disclosures under the Genetic Information Nondiscrimination Act. Medical assessments are necessary in the Reasonable Accommodation process because they confirm whether an employee has a qualifying medical condition and identify the functional limitations that may affect their ability to perform essential job duties or access workplace benefits. These forms, completed by medical providers, outline restrictions, whether temporary or permanent, and provide the foundation for determining what accommodations are appropriate. They ensure that decisions are based on verified medical need, protect the agency from legal risk, and align with requirements under the Rehabilitation Act and the Americans with Disabilities Act.

Affected public: Individuals and households.

Frequency: On Occasion.

Respondent's obligation: Required.

DOD clearance officer: Mr. Reginald Lucas.

Dated: December 19, 2025.
Stephanie J. Bost,
Alternate OSD Federal Register Liaison Officer, Department of Defense.

[FR Doc. 2025-23789 Filed 12-23-25; 8:45 am]

BILLING CODE 6001-FR-P